DEPARTMENT OF AGRICULTURE

Forest Service

Fremont and Winema Resource Advisory Committee

AGENCY: Forest Service, USDA.

ACTION: Notice of meeting.

SUMMARY: The Fremont and Winema Resource Advisory Committee will meet in Klamath Falls, Oregon, for the purpose of evaluating and recommending resource management projects for funding in FY 2011, under the provisions of Title II of the Secure Rural Schools and Community Self-Determination Act of 2008 (Pub. L. 110-343).

DATES: The meeting will be held on June 22 and 23, 2010.

ADDRESSES: The meeting will take place at the Klamath Ranger District Office, 2819 Dahlia Street, Klamath Falls, OR 97601. Send written comments to Fremont and Winema Resource Advisory Committee, c/o USDA Forest Service, 2819 Dahlia Street, Klamath Falls, OR 97601 or electronically to agowan@fs.fed.us.

FOR FURTHER INFORMATION CONTACT: Amy Gowan, Designated Federal Official, c/o Klamath Ranger District, 2819 Dahlia Street, Klamath Falls, OR 97601, telephone (541) 883-6741.

SUPPLEMENTARY INFORMATION: The agenda will include a review of FY 2011 Title II project proposals submitted by the Forest Service, the public, non-profits and other agencies, presentations by project proponents, and final recommendations for funding of fiscal year 2011 projects.

All Fremont and Winema Resource Advisory Committee Meetings are open to the public. Public input and comment forum will take place in the afternoon of June 23, 2010. Interested citizens are encouraged to attend.

Dated: May 10, 2010.
Amy Gowan,
DFO.

[FR Doc. 2010-11888 Filed 5-18-10; 8:45 am]

BILLING CODE 3410-11-M